ENVIRONMENTAL PROTECTION AGENCY

40 CFR Part 52

[TX-139-1-7554; FRL-7172-9]

Approval and Promulgation of Air Quality State Implementation Plans; Texas: Agreed Orders Issued to Airlines, Memoranda of Agreement With Owners and Operators of Major Airports, and a Revised Emissions Inventory Regarding Control of Pollution From Ground Support Equipment for the Dallas/Fort Worth Ozone Nonattainment Area

AGENCY: Environmental Protection Agency (EPA).

ACTION: Final rule.

SUMMARY: The EPA is approving a State Implementation Plan (SIP) revision which includes Agreed Orders with major airlines and Memoranda of Agreement (MOA) requiring owners and operators at major airports in the DFW area to implement reductions in oxides of nitrogen (NOX) emissions from Ground Support Equipment (GSE). The EPA is also approving a revised GSE emissions inventory for the DFW ozone nonattainment areas.

These Agreed Orders and MOAs will contribute to attainment of the ozone standard in the DFW ozone nonattainment area. The EPA is approving these revisions to the Texas SIP to regulate emissions of NOX in accordance with the requirements of the Federal Clean Air Act (ACT).

DATES: This final rule is effective on May 22, 2002.

ADDRESSES: Copies of the documents relevant to this action are available for public inspection during normal business hours at the following locations. Persons interested in examining these documents should make an appointment with the appropriate office at least 24 hours before the visiting day. Environmental Protection Agency, Region 6, Air Planning Section (6PD-L), 1445 Ross Avenue, Suite 700, Dallas, Texas 75202-2733. Texas Natural Resource Conservation Commission, 12100 Park 35 Circle, Austin, Texas 78753.

FOR FURTHER INFORMATION CONTACT: Herbert R. Sherrow, Jr., Air Planning Section (6PD-L), EPA Region 6, 1445 Ross Avenue, Dallas, Texas 75202-2733, telephone (214) 665-7237.

SUPPLEMENTARY INFORMATION: Throughout this document “we,” “us,” and “our” means EPA.

What Is the Background for This Action?

The Texas Natural Resource Conservation Commission (TNRCC) submitted the Agreed Orders and MOAs with airlines and airport owners and operators along with the repeal of the GSE rule on July 2, 2001.

The TNRCC submitted a SIP revision with a revised GSE emissions inventory based on a more detailed survey of local GSE equipment on October 15, 2001.

For further discussion of these submittals, see the proposed approval, 67 FR 5078, February 4, 2002, and the related Technical Support Document.

A proposed approval of the Agreed Orders and MOAs issued to airport owners and airlines regarding pollution controls on GSE and the revised GSE emissions inventory for the DFW area were published at 67 FR 5078, February 4, 2002. We also indicated that we could not take final action on the State's GSE rule, previously submitted, since the State had withdrawn the rule.

What Is Included in the State's Agreed Orders, MOAs and Revised Emissions Inventory?

The State signed Agreed Orders with American Airlines/American Eagle Airlines, Delta Airlines, and Southwest Airlines; and MOAs with the City of Dallas, the City of Fort Worth, and the Dallas/Fort Worth International Airport Board. The Agreed Orders and MOAs make specific local NOX emission reductions from sources under the control of the airlines and owners and operators enforceable.

The revised emissions inventory, upon which the reductions are based, was compiled from a comprehensive survey of GSE equipment at the airports.

What Comments Did EPA Receive in Response to the Proposed Approval of Agreed Orders, MOAs, and a Revised Emissions Inventory for DFW Ground Support Equipment?

We received no adverse comments in response to the proposed action. We received comments from the Air Transport Association in support of our action as long as we did not act on the repealed GSE rule. We appreciate the support. The state has withdrawn the rule so we are taking no further action on the rule.

EPA's Rulemaking Action

We are granting final approval of Texas' Agreed Orders and MOAs requiring owners and operators at major airports in the DFW area to implement reductions in NOX emissions for sources under their control and we are granting final approval of the revised GSE emissions inventory. We are also reiterating our determination that we cannot take action on the State's withdrawn GSE rule.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing the rule in this action and other required information to the U.S. Senate, the U.S. House of Representatives, and the Comptroller General of the United States prior to publication of the rule in the Federal Register. A major rule cannot take effect until 60 days after it is published in the Federal Register. This action is not a “major rule” as defined by 5 U.S.C. 804(2). In addition, section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding the Orders contained in this action under section 801 because this is a rule of particular applicability.

Under section 307(b)(1) of the Clean Air Act, petitions for judicial review of this action must be filed in the United States Court of Appeals for the appropriate circuit by June 21, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Nitrogen dioxide, Ozone, Reporting and recordkeeping requirements.

Authority: 42 U.S.C. 7401 et seq.

Dated: April 4, 2002.
Gregg A. Cooke,
Regional Administrator, Region 6.

Part 52 of chapter I, title 40, Code of Federal Regulations, is amended as follows:

PART 52—[AMENDED]

1. The authority for citation for part 52 continues to read as follows:

Authority: 42 U.S.C. 7401 et seq.

Subpart SS—Texas

2. Section 52.2270 is amended:

a. In the table in paragraph (d) entitled “EPA Approved Texas Source-Specific Requirements” by adding to the end of the table Agreed Order No. 2000-1149-SIP for American Airlines, Inc./American Eagle Airlines, Inc., Agreed Order No. 2001-0221-AIR for Delta Airlines, and Agreed Order 2001-0222-AIR for Southwest Airlines;

b. In the table in paragraph (e) entitled “EPA Approved Nonregulatory Requirements” by adding to the end of the table the City of Dallas Memorandum of Agreement, the City of Fort Worth Memorandum of Agreement, and the Dallas/Fort Worth International Airport Board Memorandum of Agreement.

The additions read as follows:

§ 52.2270 Identification of plan.

* * * * *

(d) * * *

EPA Approved Texas Source-Specific Requirements
Name of source | Permit or Order No. | State effective date | EPA approval date | Comments
* * * * * * *
American Airlines, American Eagle Airlines at D/FW International airport, Texas | Agreed Order No. 2000-1149-SIP | 5/23/2001 | [Insert publication date and Federal Register cite] | DFW, Texas 1-hour ozone standard attainment demonstrations.
Delta Airlines at D/FW International Airport, Texas | Agreed Order No. 2001-0221-AIR | 5/23/2001 | [Insert publication date and Federal Register cite] | DFW, Texas 1-hour ozone standard attainment demonstrations.
Southwest Airlines at Love Field, Texas | Agreed Order No. 2001-0222-AIR | 5/23/2001 | [Insert publication date and Federal Register cite] | DFW, Texas 1-hour ozone standard attainment demonstrations.

(e) * * *

EPA Approved Nonregulatory Provisions and Quasi-Regulatory Measures in the Texas SIP
Name of SIP provision | Applicable geographic or nonattainment area | State submittal effective date | EPA approval date | Comments
* * * * * * *
Memorandum of Agreement between TNRCC and the City of Dallas, Texas | Dallas/Fort Worth Ozone Nonattainment Area. | 5/23/2001 | [Insert publication date and Federal Register cite] | DFW, Texas 1-hour ozone standard attainment demonstrations.
Memorandum of Agreement between TNRCC and the City of Fort Worth, Texas | Dallas/Fort Worth Ozone Nonattainment Area. | 5/23/2001 | [Insert publication date and Federal Register cite] | DFW, Texas 1-hour ozone standard attainment demonstrations.
Memorandum of Agreement between TNRCC and the D/FW International Airport Board, Texas | Dallas/Fort Worth Ozone Nonattainment Area. | 5/23/2001 | [Insert publication date and Federal Register cite] | DFW, Texas 1-hour ozone standard attainment demonstrations.

[FR Doc. 02-9492 Filed 4-19-02; 8:45 am]

BILLING CODE 6560-50-P